Proclamation 10720 of March 29, 2024

National Sexual Assault Awareness and Prevention Month, 2024

By the President of the United States of America

A Proclamation

Sexual violence affects every community in this Nation, leaving millions of Americans—our neighbors, friends, colleagues, and loved ones—scarred. For many survivors, healing can take years, and for some, the pain never heals completely. During National Sexual Assault Awareness and Prevention Month, we recommit to standing with survivors, holding perpetrators accountable, and bringing an end to a culture that has allowed sexual assault to occur for far too long.

More than half of all women and nearly one-third of all men in America have experienced sexual violence. The rate of sexual violence is even higher for people of color. Survivors have faced this violence wherever life happens—at work, at school, at home, and online. It can upend people's jobs and contribute to mental health issues like depression, anxiety, and post-traumatic stress disorder. It is an insult to our most basic humanity and everything we stand for as a Nation.

Ending gender-based violence has been the cause of my life. Thirty years ago, as a United States Senator, I wrote and championed the original Violence Against Women Act (VAWA). This law gave us the tools to prevent and prosecute sexual assault, provide support for survivors, and save lives. Every time we have re-authorized it, we have made it stronger. In December 2022, we secured $700 million for VAWA programs—the highest funding level in history—for the next fiscal year. Those funds have helped strengthen the public health response for domestic violence and sexual assault survivors and their children, and expand access to sexual assault medical forensic examinations and culturally specific resources for LGBTQI+ survivors, rural areas, and other underserved and marginalized communities. The reauthorization also established a new offense for Federal law enforcement officers who commit sexual misconduct under color of law and expanded Tribal jurisdiction so that non-Native perpetrators of sexual assault can be prosecuted for crimes they commit on Tribal lands.

My Administration has made ending gender-based violence a top priority in many other ways too. Our American Rescue Plan delivered $1 billion in funding for rape crisis centers, community support organizations, and other sexual violence services nationwide. We released the first-ever National Plan to End Gender-Based Violence, advancing a comprehensive Government-wide approach to preventing and addressing gender-based violence across the country. When we passed the most significant gun law in nearly 30 years, we narrowed the so-called “boyfriend loophole,” keeping guns out of the hands of domestic abusers. To combat online harassment and abuse, I worked with Vice President Kamala Harris to launch a Federal task force that has taken concrete steps on prevention, accountability, research, and support for survivors and launched the first 24/7 national helpline for survivors of image-based sexual abuse.

We are also ensuring people are safe from abuse at school and work. I signed an Executive Order that called on the Department of Education to protect students from discrimination based on sex, including sex-based harassment and sexual violence, and I remain steadfast in my commitment to ensuring all students have an educational environment free from discrimination. I have also signed laws limiting the enforcement of non-disclosure agreements for those who have been sexually assaulted or harassed in the workplace and ending forced arbitration so that survivors can get their day in court. Additionally, I have asked that Federal agencies take action to make leave more accessible for employees seeking safety and recovering from gender-based violence. Furthermore, I have spearheaded historic military justice reforms to better protect survivors in our military and ensure that prosecutorial decisions in cases of gender-based violence are fully independent from the chain of command.

This National Sexual Assault Awareness and Prevention Month, let us each recommit to stepping up and doing our part to intervene in, prevent, and end sexual assault in our communities. Let us redouble our efforts to support and stand with survivors of sexual assault. Let us pledge to work together to create a society that is truly safe, where all Americans can pursue their dreams without fear of assault, abuse, or harassment.

NOW, THEREFORE, I, JOSEPH R. BIDEN JR., President of the United States of America, by virtue of the authority vested in me by the Constitution and laws of the United States, do hereby proclaim April 2024 as National Sexual Assault Awareness and Prevention Month. I urge all Americans to support sexual assault survivors, including when survivors reach out and disclose abuse, and to strengthen our efforts to prevent this abuse in the first place.

IN WITNESS WHEREOF, I have hereunto set my hand this twenty-ninth day of March, in the year of our Lord two thousand twenty-four, and of the Independence of the United States of America the two hundred and forty-eighth.

[FR Doc. 2024-07193

Filed 4-2-24; 8:45 am]

Billing code 3395-F4-P